DEPARTMENT OF THE INTERIOR

Bureau of Reclamation

Pick-Sloan Missouri Basin Program, Eastern and Western Division Proposed Project Use Power Rate

AGENCY: Bureau of Reclamation, Interior.

ACTION: Notice of Proposed Pick-Sloan Missouri Basin Program, Eastern and Western Divisions, Project Use Power Rate Adjustment.

SUMMARY: The Bureau of Reclamation (Reclamation) is proposing a rate adjustment (proposed rate) for Project Use Power for the Pick-Sloan Missouri Basin Program (P-SMBP), Eastern and Western Divisions. The proposed rate for Project Use Power is to recover all annual operating, maintenance, and replacement expenses. The analysis of the proposed Project Use Power Rate is included in a booklet available upon request. The proposed rate for Project Use Power will become effective February 19, 2010.

This notice provides the opportunity for public comment. After review of comments received, Reclamation will consider them, revise the rates if necessary, and recommend a proposed rate for approval to the Secretary of the Interior's Office.

DATES: The comment period will begin with publication of this notice in the Federal Register. To be assured consideration, please submit comments on or before February 10, 2010.

ADDRESSES: Please send written comments to Mike Ferguson, GP-2020, Power O&M Administrator, Bureau of Reclamation, P.O. Box 36900, Billings, MT 59107-6900.

All booklets, studies, comments, letters, memoranda, and other documents made or kept by Reclamation for the purpose of developing the proposed rate for Project Use Power will be made available for inspection and copying at the Great Plains Regional Office, located at 316 North 26th Street, Billings, MT 59101.

FOR FURTHER INFORMATION CONTACT: Mike Ferguson, Bureau of Reclamation, Great Plains Regional Office at (406) 247-7705 or by e-mail at MFerguson@usbr.gov.

SUPPLEMENTARY INFORMATION:

Proposed Rate Adjustment

Power rates for the P-SMBP are established pursuant to the Reclamation Act of 1902 (43 U.S.C. 371 et seq.), as amended and supplemented by subsequent enactments, particularly section 9(c) of the Reclamation Project Act of 1939 (43 U.S.C. 485h (c)) and the Flood Control Act of 1944 (58 Stat. 887).

Beginning February 19, 2010, Reclamation proposes to:

(a) Increase the energy charge from 12.55 mills/kWh to 16.17 mills/kWh.

(b) the monthly demand charge will remain at zero.

The Project Use Power Rate will be reviewed each time Western Area Power Administration (Western) adjusts the P-SMBP Firm Power Rate. Western will conduct the necessary studies and use the methodology identified in this rate proposal to determine a new rate.

The existing rate schedule MRB-P12 placed into effect on January 21, 2006, will be replaced by rate schedule MRB-P13. The new rate schedule will include clarifying language for entities exceeding the contract rate of delivery (CROD). Coincident electrical demand in excess of the CROD will result in a penalty where a share of that month's energy proportional to the excess will be charged at ten (10) times the current project use rate as reflected in rate schedule MRB-13. The penalty will be calculated as follows:

P = (((BD/CROD)—1) * BE) * (10 * CR)

Where: P = Penalty ($)

BD = Billed Demand (kW)

CROD = Contract Rate of Delivery (kW)

BE = Billed Energy (kWh)

CR = Current Project Use Power Rate (mills/kWh)

The customer will also be billed for any increased capacity and transmission charges incurred by the Government as a result of exceeding the CROD.

In compliance with the National Environmental Policy Act of 1969 (NEPA), 42 U.S.S. 4321 et seq.; Council on Environmental Quality Regulations (40 CFR Parts 1500-1508); and Reclamation's Regulations (10 CFR Part 1021), Reclamation has determined that this action is categorically excluded from the preparation of an Environmental Assessment or Environmental Impact Statement.

Before including your name, address, phone number, e-mail address, or other personal identifying information in any correspondence, you should be aware that your entire correspondence, including your personal identifying information, may be made publicly available at any time. While you can request in your correspondence that Reclamation withhold your personal identifying information from public review, we cannot guarantee Reclamation is able to do so. Reclamation will make all submissions from organizations or businesses, and from individuals identifying themselves as representatives or officials of organizations or businesses, available for public disclosure in their entirety.

Dated: November 20, 2009.
Gary W. Campbell,
Deputy Regional Director.

[FR Doc. 2010-213 Filed 1-8-10; 8:45 am]

BILLING CODE 4310-MN-P